DEPARTMENT OF JUSTICE

Antitrust Division

Notice Pursuant to the National Cooperative Research and Production Act of 1993—Cooperative Research Group H2ICE Demonstration Vehicle

Notice is hereby given that, on August 14, 2023, pursuant to section 6(a) of the National Cooperative Research and Production Act of 1993, 15 U.S.C. 4301 et seq. (“the Act”), Cooperative Research Group H2ICE Demonstration Vehicle (“H2ICE”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Afton Chemical Corporation, Richmond, VA; ExxonMobil Technology and Engineering Company, Spring, TX; Hyundai Doosan Infracore, Incheon, KOREA; Robert Bosch LLC, Farmington Hills, MI; Shell Global Solutions (US) Inc., Houston, TX; MAHLE GmbH, Stuttgart, GERMANY; ARAMCO Services Company, Houston, TX; MECA, Arlington, VA; and Caterpillar Inc., Irving, TX. The general area of H2ICE's planned activity is to build a Class 8 Near-Zero-Emissions 2 demonstration vehicle powered by a hydrogen-fuel internal combustion engine. The primary objective of the project is to demonstrate a near-term pathway toward elimination of greenhouse gas tailpipe emissions for heavy-duty applications where battery and fuel-cell technologies are not sufficiently mature for widescale adoption. In addition to near-zero CO2 tailpipe emissions, the vehicle will also demonstrate 0.02 g/hp-hr NOX emissions utilizing current Low- NOX aftertreatment technology.

Suzanne Morris,
Deputy Director Civil Enforcement Operations, Antitrust Division.

[FR Doc. 2023-25612 Filed 11-17-23; 8:45 am]

BILLING CODE P